DEPARTMENT OF HOMELAND SECURITY

[Docket No. DHS-2015-0028]

Gratuitous Services Agreement and Volunteer Release and Hold Harmless

AGENCY: National Protection and Programs Directorate, DHS.

ACTION: 30-Day notice and request for comments; New Information Collection Request: 1670—NEW.

SUMMARY: The Department of Homeland Security (DHS), National Protection and Programs Directorate (NPPD), Office of Infrastructure Protection (IP), Protective Security Coordination Division (PSCD), Office for Bombing Prevention (OBP), will submit the following Information Collection Request (ICR) to the Office of Management and Budget (OMB) for review and clearance in accordance with the Paperwork Reduction Act of 1995 (Pub. L. 104-13, 44 U.S.C. Chapter 35). NPPD is soliciting comments concerning New Information Collection Request, Gratuitous Services Agreement and Volunteer Release and Hold Harmless form. DHS previously published this ICR in the Federal Register on August 20, 2015 (80 FR 50649), for a 60-day public comment period. DHS received no comments. The purpose of this notice is to allow an additional 30 days for public comments.

DATES: Comments are encouraged and will be accepted until March 9, 2016. This process is conducted in accordance with 5 CFR 1320.10.

ADDRESSES: Interested persons are invited to submit written comments on the proposed information collection to DHS/NPPD/IP/PSCD/OBP, 245 Murray Lane SW., Mail Stop 0612, Washington, DC 20528-0612. Emailed requests should go to OBP@dhs.gov. Comments must be identified by DHS-2015-0028 and may be submitted by one of the following methods:

• Federal eRulemaking Portal: http://www.regulations.gov.

• Email: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

FOR FURTHER INFORMATION CONTACT: DHS/NPPD/IP/PSCD/OBP, 245 Murray Lane SW., Mail Stop 0612, Washington, DC 20528-0612 or OBP@hq.dhs.gov.

SUPPLEMENTARY INFORMATION: The Gratuitous Services Agreement and Volunteer Release and Hold Harmless form will be provided to participants of OBP trainings. The participants will be emergency response personnel training with DHS OBP personnel. The collection of this information is necessary in the case that an individual who acts as a volunteer role player in support of official OBP training sustains an injury or death during the performance of his or her supporting role. If legal action is taken, this information can serve as a “hold harmless” statement/agreement by the Government. The purpose of the Gratuitous Services Agreement is to establish that no monies, favors or other compensation will be given or received by either parties involved.

Analysis

Agency: Department of Homeland Security, National Protection and Programs Directorate, Office of Infrastructure Protection, Protective Security Coordination Division, Office for Bombing Prevention.

Title: Gratuitous Services Agreement and Volunteer Release and Hold Harmless form.

OMB Number: 1670-NEW.

Frequency: Varies.

Affected Public: Participants in OBP training to include, but not limited to, emergency response personnel, firefighters, police officers, emergency medical teams, and emergency management personnel.

Number of Respondents: 750 respondents (estimate).

Estimated Time per Respondent: .2 hours.

Total Burden Hours: 150 annual burden hours.

Total Burden Cost (capital/startup): $0.

Total Recordkeeping Burden: $0.

Total Burden Cost (operating/maintaining): $6,831.00.

Dated: February 1, 2016.
David Epperson,
Chief Information Officer, National Protection and Programs Directorate, Department of Homeland Security.

[FR Doc. 2016-02356 Filed 2-5-16; 8:45 am]

BILLING CODE 9110-9P-P